FEDERAL COMMUNICATIONS COMMISSION

47 CFR Part 73

[MB Docket No. 21-152; RM-11899; DA 21-701; FR ID 34382]

Television Broadcasting Services Freeport, Illinois

AGENCY: Federal Communications Commission.

ACTION: Final rule.

SUMMARY: On April 14, 2021, the Media Bureau, Video Division (Bureau) issued a Notice of Proposed Rulemaking (NPRM) in response to a petition for rulemaking filed by Gray Television Licensee, LLC (Petitioner), requesting the allotment of channel 9 to Freeport, Illinois in the DTV Table of Allotments as the community's first local service. For the reasons set forth in the Report and Order referenced below, the Bureau amends FCC regulations to allot channel 9 at Freeport. The newly allotted channel will be authorized pursuant to the Commission's competitive bidding rules.

DATES: Effective June 25, 2021.

FOR FURTHER INFORMATION CONTACT: Joyce Bernstein, Media Bureau, at (202) 418-1647 or Joyce.Bernstein@fcc.gov.

SUPPLEMENTARY INFORMATION: The proposed rule was published at 86 FR 21258 on April 23, 2021. The Petitioner filed comments in support of the petition, as required by the Commission's rules, reaffirming its commitment to apply for channel 9 and if authorized, to build a station promptly. No other comments were filed. We believe the public interest would be served by allotting channel 9 at Freeport, Illinois. Freeport (pop. 25,638) is the county seat and largest city in Stephenson County, and clearly qualifies for community of license status for allotment purposes. In addition, the proposal would result in a first local service to Freeport; channel 41 at Freeport will be deleted since WIFR(TV), which previously occupied the channel, submitted a winning bid to go off the air in the broadcast television incentive auction and subsequently suspended operations. Moreover, the allotment is consistent with the minimum geographic spacing requirements for new DTV allotments in the Commission's rules, and the allotment point complies with the rules as the entire community of Freeport is encompassed by the 43 dBμ contour.

This is a synopsis of the Commission's Report and Order, MB Docket No. 21-152; RM-11899; DA 21-701, adopted June 16, 2021, and released June 16, 2021. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622, in paragraph (i), amend the Post-Transition Table of DTV Allotments, under Illinois, by revising the entry for “Freeport” to read as follows:

§ 73.622 Digital television table of allotments.

* * * * *

(i) * * *

Community | Channel No.
* * * * *
ILLINOIS
* * * * *
Freeport | 9, 41
* * * * *

[FR Doc. 2021-13563 Filed 6-24-21; 8:45 am]

BILLING CODE 6712-01-P